DEPARTMENT OF ENERGY

Federal Energy Regulatory Commission

[Docket No. CP03-1-000]

El Paso Natural Gas Company; Notice of Intent to Prepare an Environmental Assessment for the Proposed Power-Up Project and Request for Comments on Environmental Issues

October 16, 2002.

The staff of the Federal Energy Regulatory Commission (FERC or Commission) will prepare an environmental assessment (EA) that will discuss the environmental impacts of the Power-up Project involving construction and operation of facilities by El Paso Natural Gas Company (El Paso) in Pinal and Cochise Counties, Arizona, Hidalgo and Luna Counties, New Mexico, and El Paso, Winkler, and Culbertson Counties, Texas.¹ These facilities would consist of about 151,600 horsepower (hp) of compression at nine existing or new compressor stations. This EA will be used by the Commission in its decision-making process to determine whether the project is in the public convenience and necessity.

¹ El Paso's application was filed with the Commission under Section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice El Paso provided to landowners. This fact sheet addresses a number of typically asked questions, including the use of eminent domain and how to participate in the Commission's proceedings. It is available for viewing on the FERC Internet Web site (http://www.ferc.gov).

Summary of the Proposed Project

El Paso wants to expand the capacity of its facilities in Arizona, New Mexico, and Texas to transport an additional 320,000 thousand cubic feet (mcf) per day of natural gas on its Line 2000. El Paso seeks authority to construct and operate:

Phase I Facilities (February 2004)

1. Wink Compressor Station—Install three Taurus 60s turbine compressor units, with appurtenances, rated at approximately 23,100 hp at a new site in Section 32, P.S.L. Block 5, Winkler County, Texas.

2. El Paso Compressor Station—Install one Mars 100 turbine compressor unit, with appurtenances, rated at 15,000 hp at the existing El Paso Compressor Station located in Section 18, Block 80, El Paso County, Texas.

3. Lordsburg Compressor Station—Install one Mars 100 turbine compressor unit, with appurtenances, rated at 15,000 hp at the existing Lordsburg Compressor Station located in Section 8, Township 23 South, Range 17 West, Hidalgo County, New Mexico.

4. Tom Mix Compressor Station—Install two Taurus 70 turbine compressor units, with appurtenances, rated at 20,620 hp at a former oil pumping station located in Section 21, Township 8 South, Range 13 East, Pinal County, Arizona.

Phase 2 Facilities (April 2004)

5. Black River Compressor Station—Install one Mars 100 turbine compressor unit, with appurtenances, rated at 15,000 hp at a former oil pumping station located in Section 17, T&P Township 2, Block 60, Culberson County, Texas.

6. Florida Compressor Station—Install one Mars 100 turbine compressor unit, with appurtenances, rated at 15,000 hp at the existing Florida Compressor Station located in Section 14, Township 24 South, Range 6 West, Luna County, New Mexico.

7. Cimarron Compressor Station—Install one Mars 100 turbine compressor unit, with appurtenances, rated at 15,000 hp at a new site located in Section 10, Township 13 South, Range 25 East, Cochise County, Arizona. Phase 3 Facilities (April 2005)

8. Cornudas Compressor Station—Install two Taurus 70 turbine compressor units, with appurtenances, rated at 20,620 hp at the existing Cornudas Compressor Station located in Section 17, University Land, Block J, Hudspeth County, Texas.

9. Casa Grande Compressor Station—Install two Centaur 50 turbine compressor units, with appurtenances, rated at 12,260 hp at the existing Casa Grande Compressor Station located in Section 17, Township 6 South, Range 3 East, Pinal County, Arizona.

El Paso would also install certain appurtenant facilities within the compressor stations, pursuant to Section 2.55(a) of the Commission's Statements of General Policy and Interpretations Under the Natural Gas Act. These facilities would include station piping, valves and fittings, gas cooling equipment, compressor station yard facilities (yard lighting, gravel or other ground covering), gas scrubbers, auxiliary buildings, cathodic protection systems, and an evaporative pond.

The general location of the project facilities is shown in appendix 1.²

² The appendices referenced in this notice are not being printed in the Federal Register. Copies are available on the Commission's website at the “FERRIS” link or from the Commission's Public Reference and Files Maintenance Branch, 888 First Street, NE, Washington, DC 20426, or call 1-202-502-8371. For instructions on connecting to FERRIS refer to the last page of this notice. Copies of the appendices were sent to all those receiving this notice in the mail.

Land Requirements for Construction

Construction of the proposed facilities would require about 81.5 acres of land. Following construction, about 35.4 acres would be maintained as new aboveground facility sites. The remaining 46.1 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ ”We”, “us”, and “our” refer to the environmental staff of the Office of Energy Projects (OEP).

The EA will discuss impacts that could occur as a result of the construction and operation of the proposed project under these general headings:

1. Geology and soils.

2. Land use.

3. Water resources.

4. Cultural resources.

5. Vegetation and wildlife.

6. Air quality and noise.

7. Endangered and threatened species.

8. Hazardous waste.

9. Public safety.

We will not discuss impacts to the following resource areas since they are not present in the project area, or would not be affected by the proposed facilities:

1. Federal-, state-, or local- designated natural, recreational, scenic, or special use areas.

2. Wetlands.

3. Fisheries.

4. Perennial waterbodies.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by El Paso. This preliminary list of issues may be changed based on your comments and our analysis.

1. The operation of the compressor units at the nine existing and new compressor stations would affect air quality and increase noise levels near the station.

2. About 23 acres of desert scrub vegetation would be affected by construction of which about 4 acres would be permanently affected by operation of the project.

3. Twenty federally listed endangered or threatened species may occur in the proposed project area.

Public Participation

You can make a difference by providing us with your specific comments or concerns about the project. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

1. Send an original and two copies of your letter to: Magalie R. Salas, Secretary, Federal Energy Regulatory Commission, 888 First St., NE, Room 1A, Washington, DC 20426.

2. Label one copy of the comments for the attention of Gas Branch 2.

3. Reference Docket No. CP03-1-000.

4. Mail your comments so that they will be received in Washington, DC on or before November 12, 2002.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). ⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY 1-202-502-8659, or at FERCONLINESUPPORT@FERC.GOV. The FERRIS link on the FERC Internet website also provides access to the texts of formal documents issued by the Commission, such as orders, notices, and rulemakings.

Linwood A. Watson, Jr.,
Deputy Secretary.

[FR Doc. 02-26938 Filed 10-22-02; 8:45 am]

BILLING CODE 6717-01-P